DEPARTMENT OF TRANSPORTATION

Federal Aviation Administration

Advisory Circular 21-2J, Export Airworthiness Approval Procedures

AGENCY: Federal Aviation Administration (FAA), DOT.

ACTION: Notice of availability.

SUMMARY: This notice announces the availability of Advisory Circular 21-2J, Export Airworthiness Approval Procedures. Advisory Circular 21-2J provides information and guidance concerning an acceptable means, but not the only means, of demonstrating compliance with the requirements of Title 14 Code of Federal Regulations, part 21, Certification Procedures for Products and Parts, regarding Export Airworthiness Certification approvals.

ADDRESSES: Copies of AC 21-2J can be obtained from the following: U.S. Department of Transportation, Subsequent Distribution Office, Ardmore East Business Center, 3341 Q 75th Ave, Landover, MD 20785. Issued in Washington, DC on June 27, 2000.

Frank P. Paskiewicz,
Manager, Production and Airworthiness Certification Division, AIR-200.

[FR Doc. 00-17789 Filed 7-12-00; 8:45 am]

BILLING CODE 4910-13-M